DEPARTMENT OF ENERGY

Federal Energy Regulatory Commission

Combined Notice of Filings #1

Take notice that the Commission received the following electric rate filings:

Docket Numbers: ER17-405-003; ER17-406-003; EL23-51-002.

Applicants: American Municipal Power, Inc., et al. v. AEP Appalachian Transmission Company Inc., et al., AEP Appalachian Transmission Company, Inc., Appalachian Power Company.

Description: American Power East Companies submit compliance filing as directed by the January 18, 2024 Order.

Filed Date: 3/18/24.

Accession Number: 20240318-5279.

Comment Date: 5 p.m. ET 4/8/24.

Docket Numbers: ER24-943-001.

Applicants: Cottontail Solar 5, LLC.

Description: Compliance filing: Revised Rate Schedule FERC No. 1 to be effective 1/31/2024.

Filed Date: 3/20/24.

Accession Number: 20240320-5053.

Comment Date: 5 p.m. ET 4/10/24.

Docket Numbers: ER24-978-001.

Applicants: Midcontinent Independent System Operator, Inc.

Description: Tariff Amendment: 2024-03-20_SA 4228 GRE-OTP-Discovery Wind Sub Original GIA (S1036) to be effective 3/24/2024.

Filed Date: 3/20/24.

Accession Number: 20240320-5195.

Comment Date: 5 p.m. ET 4/10/24.

Docket Numbers: ER24-1030-001.

Applicants: Arizona Public Service Company.

Description: Tariff Amendment: Service Agreement No. 406, Amendment 3 Refile to be effective 3/30/2024.

Filed Date: 3/20/24.

Accession Number: 20240320-5106.

Comment Date: 5 p.m. ET 4/1/24.

Docket Numbers: ER24-1574-000.

Applicants: PJM Interconnection, L.L.C.

Description: Tariff Amendment: Notice of Cancellation of WMPA, SA No. 6072; Queue No. AF2-293 to be effective 5/10/2024.

Filed Date: 3/20/24.

Accession Number: 20240320-5064.

Comment Date: 5 p.m. ET 4/10/24.

Docket Numbers: ER24-1575-000.

Applicants: PJM Interconnection, L.L.C.

Description: 205(d) Rate Filing: Original NSA SA No. 7198, Queue No. AF1-130 to be effective 5/20/2024.

Filed Date: 3/20/24.

Accession Number: 20240320-5076.

Comment Date: 5 p.m. ET 4/10/24.

Docket Numbers: ER24-1576-000.

Applicants: Maple Flats Solar Energy Center LLC.

Description: Baseline eTariff Filing: Application for Market Based Rate Authorization to be effective 3/21/2024.

Filed Date: 3/20/24.

Accession Number: 20240320-5094.

Comment Date: 5 p.m. ET 4/10/24.

Docket Numbers: ER24-1577-000.

Applicants: Arizona Public Service Company.

Description: 205(d) Rate Filing: Rate Schedule No. 320, Babbitt Ranch Pseudo-Tie to be effective 5/20/2024.

Filed Date: 3/20/24.

Accession Number: 20240320-5099.

Comment Date: 5 p.m. ET 4/10/24.

Docket Numbers: ER24-1578-000.

Applicants: Arizona Public Service Company.

Description: 205(d) Rate Filing: Service Agreement No. 419, E&P w/Elisabeth Solar to be effective 3/11/2024.

Filed Date: 3/20/24.

Accession Number: 20240320-5112.

Comment Date: 5 p.m. ET 4/10/24.

Docket Numbers: ER24-1579-000.

Applicants: Arizona Public Service Company.

Description: 205(d) Rate Filing: Administrative Filing for Collation Correction to be effective 3/20/2024.

Filed Date: 3/20/24.

Accession Number: 20240320-5121.

Comment Date: 5 p.m. ET 4/10/24.

Docket Numbers: ER24-1580-000.

Applicants: Alabama Power Company, Georgia Power Company, Mississippi Power Company.

Description: 205(d) Rate Filing: Alabama Power Company submits tariff filing per 35.13(a)(2)(iii: Double Run Solar LGIA Amendment Filing to be effective 3/6/2024.

Filed Date: 3/20/24.

Accession Number: 20240320-5127.

Comment Date: 5 p.m. ET 4/10/24.

Docket Numbers: ER24-1581-000.

Applicants: Alabama Power Company, Georgia Power Company, Mississippi Power Company.

Description: 205(d) Rate Filing: Alabama Power Company submits tariff filing per 35.13(a)(2)(iii: Kirkham Solar Farms I (Kirkham L&MA) LGIA Filing to be effective 3/8/2024.

Filed Date: 3/20/24.

Accession Number: 20240320-5129.

Comment Date: 5 p.m. ET 4/10/24.

Docket Numbers: ER24-1582-000.

Applicants: Southwest Power Pool, Inc.

Description: 205(d) Rate Filing: 4239 Little Blue Wind II GIA to be effective 3/12/2024.

Filed Date: 3/20/24.

Accession Number: 20240320-5143.

Comment Date: 5 p.m. ET 4/10/24.

Docket Numbers: ER24-1583-000.

Applicants: Southwest Power Pool, Inc.

Description: 205(d) Rate Filing: Revisions to Att J to Reallocate Remaining ATRR for Byway Upgrades (RR 584) to be effective 6/1/2024.

Filed Date: 3/20/24.

Accession Number: 20240320-5166.

Comment Date: 5 p.m. ET 4/10/24.

Docket Numbers: ER24-1584-000.

Applicants: Tucson Electric Power Company.

Description: 205(d) Rate Filing: Concurrence to PSE Rate Schedule No. 160 to be effective 5/1/2024.

Filed Date: 3/20/24.

Accession Number: 20240320-5172.

Comment Date: 5 p.m. ET 4/10/24.

Docket Numbers: ER24-1585-000.

Applicants: California State University Channel Islands Site Authority.

Description: 205(d) Rate Filing: CSUCI-SA Settlement Agreement with Participants to be effective 2/1/2022.

Filed Date: 3/20/24.

Accession Number: 20240320-5182.

Comment Date: 5 p.m. ET 4/10/24.

Docket Numbers: ER24-1586-000.

Applicants: Midcontinent Independent System Operator, Inc.

Description: Compliance filing: 2024-03-20_MISO Petition for a Prospective Tariff Waiver of SPP Tariff to be effective N/A.

Filed Date: 3/20/24.

Accession Number: 20240320-5193.

Comment Date: 5 p.m. ET 4/10/24.

Take notice that the Commission received the following electric reliability filings:

Docket Numbers: RR24-2-000.

Applicants: North American Electric Reliability Corporation.

Description: Petition of the North American Electric Reliability Corporation for approval of revisions to the NERC Rules of Procedure to address unregistered inverter-based resources.

Filed Date: 3/19/24.

Accession Number: 20240319-5204.

Comment Date: 5 p.m. ET 4/18/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: March 20, 2024.
Debbie-Anne A. Reese,
Acting Secretary.

[FR Doc. 2024-06427 Filed 3-25-24; 8:45 am]

BILLING CODE 6717-01-P